Title 3—

The President

Presidential Determination No. 2001-24 of August 18, 2001

Military Drawdown for Tunisia

Memorandum for the Secretary of State [and] the Secretary of Defense

Pursuant to the authority vested in me as President by the Constitution and laws of the United States, including Title III (Foreign Military Financing) of the Foreign Operations, Export Financing, and Related Programs Appropriations Act, 2001, as enacted in Public Law 106-429 (Title III), I hereby direct the drawdown of defense articles from the stocks of the Department of Defense, and military education and training of the aggregate value of $5 million for Tunisia, consistent with the authority provided under Title III, for the purposes of part II of the Foreign Assistance Act of 1961.

The Secretary of State is authorized and directed to report this determination to the Congress and to publish it in the Federal Register.

B

THE WHITE HOUSE,

Washington, August 18, 2001.

[FR Doc. 01-22643

Filed 9-6-01; 8:45 am]

Billing code 4710-10-M